DEPARTMENT OF HEALTH AND HUMAN SERVICES

Centers for Disease Control and Prevention

[Docket Number CDC-2016-0016; NIOSH 248-D]

World Trade Center Health Program Scientific/Technical Advisory Committee (WTCHP STAC or Advisory Committee), National Institute for Occupational Safety and Health (NIOSH)

In accordance with section 10(a)(2) of the Federal Advisory Committee Act (Pub. L. 92-463), the Centers for Disease Control and Prevention (CDC), announces the following meeting of the aforementioned committee:

Time and Date: 1:00 p.m.-4:30 p.m., March 22, 2016 (All times are Eastern Daylight Savings Time).

Place: This meeting will be available via telephone and Web Conference. Audio will be available by telephone only and visuals will be available by Web Conference only. The USA toll-free, dial-in number is 1-800-988-0221. To be connected to the meeting, you will need to provide the following participant code to the operator: 4534900. To obtain further instructions on how to access the meeting online through Web Conference, see the instructions at the Committee's meeting Web site: To view the Web conference, enter the following Web address in your Web browser: https://odniosh.adobeconnect.com/wtcstac/.

Public Comment Time and Date: 1:30 p.m.-2:00 p.m. EDT, March 22, 2016.

Please note that the public comment period ends at the time indicated above or following the last call for comments, whichever is earlier. Members of the public who want to comment must sign up by providing their name by mail, email, or telephone, at the addresses provided below by March 18, 2016. Each commenter will be provided up to five minutes for comment. A limited number of time slots are available and will be assigned on a first come-first served basis. Written comments will also be accepted from those unable to attend the public session.

Status: Open to the public, limited only by the number of telephone lines. The conference line will accommodate up to 50 callers; therefore it is suggested that those interested in calling in to listen to the committee meeting share a line when possible.

Background: The Advisory Committee was established by Title I of the James Zadroga 9/11 Health and Compensation Act of 2010, Public Law 111-347 (Jan. 2, 2011), amended by Public Law 114-113 (Dec. 18, 2015), adding Title XXXIII to the Public Health Service Act (42 U.S.C. 300mm to 300mm-61).

Purpose: The purpose of the Advisory Committee is to review scientific and medical evidence and to make recommendations to the World Trade Center (WTC) Program Administrator regarding additional WTC Health Program eligibility criteria, potential additions to the list of covered WTC-related health conditions, and research regarding certain health conditions related to the September 11, 2001 terrorist attacks. Title XXXIII of the Public Health Service Act (PHS Act) established the WTC Health Program within the Department of Health and Human Services (HHS). The WTC Health Program provides medical monitoring and treatment benefits to eligible firefighters and related personnel, law enforcement officers, and rescue, recovery, and cleanup workers who responded to the September 11, 2001, terrorist attacks in New York City, at the Pentagon, and in Shanksville, Pennsylvania (responders), and to eligible persons who were present in the dust or dust cloud on September 11, 2001 or who worked, resided, or attended school, childcare, or adult daycare in the New York City disaster area (survivors). Certain specific activities of the WTC Program Administrator are reserved to the Secretary, HHS, to delegate at her discretion; other WTC Program Administrator duties not explicitly reserved to the Secretary, HHS, are assigned to the Director, NIOSH. The administration of the Advisory Committee is left to the Director of NIOSH in his role as WTC Program Administrator. CDC and NIOSH provide funding, staffing, and administrative support services for the Advisory Committee. The charter was reissued on May 12, 2015, and will expire on May 12, 2017.

Matters for Discussion: The agenda for the Advisory Committee meeting includes a discussion of the Chair's report on establishing control groups for WTC health research, a presentation of a report by the Children's Research Workgroup report and developing recommendations on children's research.

The agenda is subject to change as priorities dictate.

To view the notice, visit http://www.regulations.gov and enter CDC-2016-0016 in the search field and click “Search.”

Public Comment Sign-up and Submissions to the Docket: To sign up to provide public comments or to submit comments to the docket, send information to the NIOSH Docket Office by one of the following means:

Mail: NIOSH Docket Office, Robert A. Taft Laboratories, MS-C-34, 1090 Tusculum Avenue, Cincinnati, Ohio 45226.

Email: nioshdocket@cdc.gov.

Telephone: (513) 533-8611.

In the event an individual cannot attend, written comments may be submitted. The comments should be limited to two pages and submitted through http://www.regulations.gov by March 18, 2016. Efforts will be made to provide the two-page written comments received by the deadline above to the committee members before the meeting. Comments in excess of two pages will be made publicly available at http://www.regulations.gov. To view background information and previous submissions go to NIOSH docket http://www.cdc.gov/niosh/docket/archive/docket248-D.html and http://www.cdc.gov/niosh/docket/archive/docket248-A.html.

Policy on Redaction of Committee Meeting Transcripts (Public Comment): Transcripts will be prepared and posted to http://www.regulations.gov within 60 days after the meeting. If a person making a comment gives his or her name, no attempt will be made to redact that name. NIOSH will take reasonable steps to ensure that individuals making public comments are aware of the fact that their comments (including their name, if provided) will appear in a transcript of the meeting posted on a public Web site. Such reasonable steps include a statement read at the start of the meeting stating that transcripts will be posted and names of speakers will not be redacted. If individuals in making a statement reveal personal information (e.g., medical information) about themselves, that information will not usually be redacted. The CDC Freedom of Information Act coordinator will, however, review such revelations in accordance with the Freedom of Information Act and, if deemed appropriate, will redact such information. Disclosures of information concerning third party medical information will be redacted.

Contact Person for More Information: Paul J. Middendorf, Ph.D., Designated Federal Officer, NIOSH, CDC, 2400 Century Parkway NE., Mail Stop E-20, Atlanta, GA 30345, telephone 1 (888) 982-4748; email: wtc-stac@cdc.gov.

The Director, Management Analysis and Services Office, has been delegated the authority to sign Federal Register Notices pertaining to announcements of meetings and other committee management activities, for both the Centers for Disease Control and Prevention, and the Agency for Toxic Substances and Disease Registry.

Claudette Grant,
Acting Director, Management Analysis and Services Office, Centers for Disease Control and Prevention.

[FR Doc. 2016-03932 Filed 2-24-16; 8:45 am]

BILLING CODE 4163-18-P